DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 14, 2002.

Interested persons are invited to submit written comments regarding the subject matter of the investigations to the Director, Division of Trade Adjustment Assistance, at the address shown below, not later than January 14, 2001.

The petitions filed in this case are available for inspection at the Office of the Director, Division of Trade Adjustment Assistance, Employment and Training Administration, U.S. Department of Labor, Room C-5311, 200 Constitution Avenue, NW., Washington, DC 20210.

Signed at Washington, DC, this 3rd day of December, 2001.
Edward A. Tomchick,
Director, Division of Trade Adjustment Assistance.

Appendix
[Petitions Instituted On 12/03/2001]
TA-W | Subject firm (petitioners) | Location | Date of petition | Product(s)
40,376 | Wheeling Corrugating Co. (Wkrs) | Kirkwood, NY | 11/25/2001 | Corrugated Steel Roofing and Siding.
40,377 | Dexter Shoe (Co.) | Dexter, ME | 11/20/2001 | Footwear.
40,378 | Chrissann Dress Co. (UNITE) | Franklin Square, NY | 10/18/2001 | Ladies' Dresses.
40,379 | HC Contracting, Inc (UNITE) | New York, NY | 10/31/2001 | Ladies' Sportswear.
40,380 | HLS Fashions Corp (UNITE) | New York, NY | 10/31/2001 | Ladies' Dresses.
40,381 | Four Seasons Fashion Mfg (UNITE) | New York, NY | 10/31/2001 | Ladies' Sportswear.
40,382 | Corning Asahi Video (AFGWU) | State College, PA | 11/25/2001 | TV Panels and Tubes.
40,383 | New GLI, Inc (Wkrs) | Columbus, IN | 06/03/2001 | Television Cabinets.
40,384 | K.S. Bearing, Inc. (UAW) | Greensburg, IN | 11/16/2001 | Bushings, Bearings and Washers.
40,385 | Steag Hamatech (Wkrs) | Saco, ME | 11/20/2001 | Unijet DVD.
40,386 | Celestica Corporation (Co.) | Milwaukie, OR | 11/19/2001 | Power Supplies.
40,387 | STMicroelectronics (Co.) | San Diego, CA | 11/16/2001 | Semiconductor Wafers.
40,388 | X Fab Texas (Wkrs) | Lubbock, TX | 11/15/2001 | Micro Chips.
40,389 | BP/Amoco Oil (Wkrs) | Chicago, IL | 11/26/2001 | Exploration & Prod. of Oil and Gas.
40,390 | Carlisle Engineered (USWA) | Lake City, PA | 10/23/2001 | Plastic Injected Molded Parts.
40,391 | Deck Bros (USWA) | Buffalo, NY | 09/18/2001 | Heat Sinks, Bus Bar and Castings.
40,392 | A.S. Haight (UNITE) | Cartersville, GA | 11/19/2001 | Screen Printing Cloth.
40,393 | Stylemaster Apparel (Wkrs) | Union, MO | 11/27/2001 | Hats.
40,394 | N and H Corporation (Co.) | Mohnton, PA | 11/06/2001 | Knit Sportswear.
40,395 | Lexmark International (Co.) | Lexington, KY | 11/20/2001 | Laster and Inkjet Printers, Cartridges.

[FR Doc. 01-32206 Filed 12-31-01; 8:45 am]

BILLING CODE 4510-30-M